DEPARTMENT OF ENERGY

Federal Energy Regulatory Commission

Combined Notice of Filings #3

January 6, 2006.

Take notice that the Commission received the following electric rate filings:

Docket Numbers: ER03-345-006.

Applicants: New England Power Pool Participants Committee.

Description: ISO New England, Inc submits semi-annual status report on load response programs pursuant to FERC's 2/25/03 Order.

Filed Date: 12/29/2005.

Accession Number: 20051230-0067.

Comment Date: 5 p.m. eastern time on Thursday, January 19, 2006.

Docket Numbers: ER03-736-003; ER04-1153-001.

Applicants: CAM Energy Products, LP; CAM Energy Trading, LLC.

Description: CAM Energy Products, LP & CAM Energy Trading, LLC notifies the FERC of a change in status with regard to the representations upon which the FERC relied in granting market-based rate authority.

Filed Date: 12/29/2005.

Accession Number: 20051230-0065.

Comment Date: 5 p.m. eastern time on Thursday, January 19, 2006.

Docket Numbers: ER05-695-001.

Applicants: Virginia Electric and Power Company.

Description: Virginia Electric and Power Co dba Dominion Virginia Power submits a revised Standard Large Generator Interconnection Agreement with Tenaska Virginia II Partners, LP.

Filed Date: 12/29/2005.

Accession Number: 20051230-0062.

Comment Date: 5 p.m. eastern time on Thursday, January 19, 2006.

Docket Numbers: ER06-418-000.

Applicants: San Diego Gas & Electric Company.

Description: San Diego Gas & Electric Co submits a change in rates for the Transmission Revenue Balancing Account Adjustment and its Transmission Access Charge Balancing Account Adjustment.

Filed Date: 12/29/2005.

Accession Number: 20051230-0094.

Comment Date: 5 p.m. eastern time on Thursday, January 19, 2006.

Docket Numbers: ER06-419-000.

Applicants: Tampa Electric Company.

Description: Tampa Electric Co submits for inclusion in its OATT revised tariff sheets that contain and accommodate standard procedures for large wind generation in compliance with Order 661 and 661-A, to become effective 1/18/06.

Filed Date: 12/29/2005.

Accession Number: 20051230-0095.

Comment Date: 5 p.m. eastern time on Thursday, January 19, 2006.

Docket Numbers: ER06-420-000.

Applicants: Pacific Gas and Electric Company.

Description: Pacific Gas and Electric Co submits the Special Facilities Agreement with Northern California Power Agency et al. for Plumas-Sierra's 60 kV Interconnection at Quincy Substation.

Filed Date: 12/29/2005.

Accession Number: 20060103-0125.

Comment Date: 5 p.m. eastern time on Thursday, January 19, 2006.

Docket Numbers: ER06-421-000.

Applicants: ISO New England Inc.

Description: ISO New England, Inc submits the Coordination Agreement with New York Independent System Operator which includes a rate schedule for Emergency Energy Pricing.

Filed Date: 12/29/2005.

Accession Number: 20051230-0096.

Comment Date: 5 p.m. eastern time on Thursday, January 19, 2006.

Docket Numbers: ER06-422-000.

Applicants: Avista Corporation.

Description: Avista Corporation submits revisions to its OATT, FERC Electric Tariff, Volume No. 8 pursuant to Interconnection for Wind Energy, Order No. 661-A.

Filed Date: 12/29/2005.

Accession Number: 20051230-0089.

Comment Date: 5 p.m. eastern time on Thursday, January 19, 2006.

Docket Numbers: ER06-423-000.

Applicants: Boston Edison Company.

Description: Boston Edison Co submits executed Dewar Street Interconnection Agreement with New England Power Co and BECo dated as of 12/22/05, effective date of 1/1/06.

Filed Date: 12/29/2005.

Accession Number: 20051230-0090.

Comment Date: 5 p.m. eastern time on Thursday, January 19, 2006.

Docket Numbers: ER06-425-000.

Applicants: El Segundo Power, LLC.

Description: El Segundo Power, LLC submits a Notice of Cancellation of Rate Schedule FERC No. 2, the Must-Run Service Agreement with the California Independent System Operator.

Filed Date: 12/29/2005.

Accession Number: 20051230-0063.

Comment Date: 5 p.m. eastern time on Thursday, January 19, 2006.

Docket Numbers: ER06-426-000.

Applicants: Cabrillo Power I LLC.

Description: Cabrillo Power I, LLC submits revisions to the Reliability Must-Run Service Agreement between Cabrillo I and the California Independent System Operator Corp.

Filed Date: 12/29/2005.

Accession Number: 20051230-0064.

Comment Date: 5 p.m. eastern time on Tuesday, January 17, 2006.

Docket Numbers: ER06-427-000.

Applicants: Mystic Development, LLC.

Description: Mystic Development, LLC submits its proposed FERC Electric Tariff, Original Volume No. 2, & supporting cost data specifying Mystic's revenue requirement for providing cost-based reliability services.

Filed Date: 12/29/2005.

Accession Number: 20051230-0107.

Comment Date: 5 p.m. eastern time on Thursday, January 19, 2006.

Docket Numbers: ER06-428-000.

Applicants: Portland General Electric Company.

Description: Portland General Electric Co submits specific revisions to its Pro Forma OATT pursuant to the applicable tariff filing requirements.

Filed Date: 12/29/2005.

Accession Number: 20060103-0009.

Comment Date: 5 p.m. eastern time on Thursday, January 19, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-276 Filed 1-12-06; 8:45 am]

BILLING CODE 6717-01-P